Proclamation 9749 of May 11, 2018

Mother's Day, 2018

By the President of the United States of America

A Proclamation

Mother's Day is a very special occasion and opportunity to express our endless gratitude to the women who give their unyielding love and devotion to their families, and their unending sacrifices to guide, protect, and nurture the success of their children. Our country has long appreciated and benefited from the contributions women have made to empowering and inspiring not only those under their roofs, but those in our schools, communities, governments, and businesses.

Our Nation's mothers are steadfast during times of heartbreak and hardship, triumph and accomplishment. They are unwavering examples of strength and resilience. In times of uncertainty and despair, they are our steady compasses, providing wisdom and guidance along the way. In times of success and joy, they are our most ardent supporters, cheering us to ever-greater heights. Mothers are our tireless advocates, always recognizing our gifts and talents, and helping us achieve our full potential.

On Mother's Day, we also pause to remember the women who are no longer with us. Their indelible spirits live on in the character of the generations they helped shape. We can see this in the inspiring legacy of First Lady Barbara Pierce Bush. As a selfless wife, mother, grandmother, great-grandmother, military spouse, and First Lady, Mrs. Bush was a fierce advocate for the American family. Her resolute faith, love, and loyalty is forever etched into the heart of our Nation.

Today, and every day, let us express our utmost respect, admiration, and appreciation for our mothers who have given us the sacred gifts of life and unconditional love. In all that they do, mothers influence their families, their communities, our Nation, and our world. Whether we became their children through birth, adoption, or foster care, we know the unmatched power of the love, dedication, devotion, and wisdom of our mothers.

In recognition of the contributions of mothers to American families and to our Nation, the Congress, by joint resolution approved May 8, 1914 (38 Stat. 770), has designated the second Sunday in May each year as Mother's Day, and requested the President to call for its appropriate observance.

NOW, THEREFORE, I, DONALD J. TRUMP, President of the United States of America, by virtue of the authority vested in me by the Constitution and the laws of the United States, do hereby proclaim May 13, 2018, as Mother's Day. I encourage all Americans to express their love and respect for their mothers or beloved mother figures, whether with us in person or in spirit, and to reflect on the importance of motherhood to the prosperity of our families, communities, and Nation.

IN WITNESS WHEREOF, I have hereunto set my hand this eleventh day of May, in the year of our Lord two thousand eighteen, and of the Independence of the United States of America the two hundred and forty-second.

[FR Doc. 2018-10721

Filed 5-16-18; 11:15 am]

Billing code 3295-F8-P